DEPARTMENT OF STATE

[Public Notice: 12148]

Listening Session on Modernizing the Columbia River Treaty Regime

ACTION: Notice of meeting.

SUMMARY: The Department of State will hold a virtual listening session to provide an update after the August 10-11 round of negotiations to modernize the Columbia River Treaty (CRT) regime, and to provide U.S. citizens from the Columbia Basin the opportunity to express their views on the CRT.

DATES: The session will be held on August 22, 2023, from 5:00 p.m.-6:30 p.m. PT (8:00 p.m.-9:30 p.m. ET).

ADDRESSES: The session will be held virtually.

FOR FURTHER INFORMATION CONTACT: Office of Canadian Affairs, Department of State, ColumbiaRiverTreaty@state.gov, (202) 647-2170.

SUPPLEMENTARY INFORMATION: This listening session is part of the Department's public engagement on the modernization of the CRT regime. (Per 22 U.S.C. 2651a and 2656.) The session is open to the public. To register, go to: https://statedept.zoomgov.com/webinar/register/WN_sGSwEGkdQlCbuj8YmHwK1g. Requests for reasonable accommodation should be made to the email listed above, on or before August 18, 2023. The Department will consider requests made after that date, but might not be able to accommodate them. For more information about the meeting, and to submit questions in advance, please contact ColumbiaRiverTreaty@state.gov.

Authority: 22 U.S.C. 2651a, 2656; 5 U.S.C. 552.

Jennifer L. Savage,
Director, Office of Canadian Affairs, Department of State.

[FR Doc. 2023-17464 Filed 8-14-23; 8:45 am]

BILLING CODE 4710-29-P